CORPORATION FOR NATIONAL AND COMMUNITY SERVICE

Agency Information Collection Activities; Submission to the Office of Management and Budget for Review and Approval; Comment Request; NCCC Service Project Application

AGENCY: Corporation for National and Community Service.

ACTION: Notice of information collection; request for comment.

SUMMARY: The Corporation for National and Community Service, operating as AmeriCorps, has submitted a public information collection request (ICR) entitled NCCC Service Project Application for review and approval in accordance with the Paperwork Reduction Act.

DATES: Written comments must be submitted to the individual and office listed in the ADDRESSES section by August 29, 2022.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Copies of this ICR, with applicable supporting documentation, may be obtained by calling the Corporation for National and Community Service, Ken Goodson, at 202-489-5766 or by email to kgoodson@cns.gov.

SUPPLEMENTARY INFORMATION: The OMB is particularly interested in comments which:

• Evaluate whether the proposed collection of information is necessary for the proper performance of the functions of CNCS, including whether the information will have practical utility;

• Evaluate the accuracy of the agency's estimate of the burden of the proposed collection of information, including the validity of the methodology and assumptions;

• Propose ways to enhance the quality, utility, and clarity of the information to be collected; and

• Propose ways to minimize the burden of the collection of information on those who are to respond, including through the use of appropriate automated, electronic, mechanical, or other technological collection techniques or other forms of information technology.

Comments

A 60-day Notice requesting public comment was published in the Federal Register on May 23, 2022 at Vol. 87, 3218. This comment period ended July, 23, 2022. Zero public comments were received from this Notice.

Title of Collection: NCCC Service Project Application.

OMB Control Number: 3045-0010. Type of Review: Renewal.

Respondents/Affected Public: Current and prospective AmeriCorps NCCC sponsors.

Total Estimated Number of Annual Responses: 1,800.

Total Estimated Number of Annual Burden Hours: 17,100.

Abstract: The AmeriCorps NCCC Service Project Application is completed by organizations interested in sponsoring an AmeriCorps National Civilian Community Corps (NCCC) team. Each year, AmeriCorps NCCC engages teams of members in projects in communities across the United States. Service projects, which typically last from six to eight weeks, address critical needs in natural and other disasters, infrastructure improvement, environmental stewardship and conservation, energy conservation, and urban and rural development. Members construct and rehabilitate low-income housing, respond to natural disasters, clean up streams, help communities develop emergency plans, and address other local needs.

AmeriCorps has made several changes to the application in an effort to streamline it for users. Based on feedback from stakeholders, the application now has additional project objective options users may select, and the radio buttons have been changed to check boxes to allow users to select as many objectives as they would like. The NCCC Service Project Application was also simplified by deleting the “Organizational Capacity” and “Needs” narrative pages.

AmeriCorps seeks to renew the current information collection.The revisions are intended to simplify the application process for prospective sponsors. The information collection will otherwise be used in the same manner as the existing application. AmeriCorps also seeks to continue using the current application until the revised application is approved by OMB. The current application is due to expire on 10/31/2022.

Dated: July 26, 2022.
Walter Goodson,
Director, AmeriCorps NCCC.

[FR Doc. 2022-16334 Filed 7-28-22; 8:45 am]

BILLING CODE 6050-28-P